DEPARTMENT OF HEALTH AND HUMAN SERVICES

Centers for Disease Control and Prevention

[30-Day-12-09BY]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an email to omb@cdc.gov. Send written comments to CDC Desk Officer, Office of Management and Budget, Washington, DC 20503 or by fax to (202) 395-5806. Written comments should be received within 30 days of this notice.

Proposed Project

Healthy Homes and Lead Poisoning Surveillance System (HHLPSS)—New—National Center for Environmental Health (NCEH) and Agency for Toxic Substances and Disease Registry (ATSDR)/Centers for Disease Control and Prevention (CDC).

Background and Brief Description

The overarching goal of the Healthy Homes and Lead Poisoning Surveillance System (HHLPSS) is to establish Healthy Homes Surveillance Systems at the state and national levels. Currently, 40 state and local Childhood Lead Poisoning Prevention Programs (CLPPP) report information (e.g., presence of lead paint, age of housing, and type of housing) to CDC via the National Blood Lead Surveillance System (NBLSS) (OMB No. 0920-0337, exp. 1/31/2012). The addition of a new panel of housing questions would help to provide a more comprehensive picture of housing stock in the United States and potentially modifiable risk factors.

The objectives for developing this new surveillance system are two-fold. First, the HHLPSS will allow the CDC to systematically track how the state and local programs conduct case management and follow-up of residents with housing-related health outcomes.

The next objective for the development of this system is to examine potential housing-related risk factors. Childhood lead poisoning is just one of many adverse health conditions that are related to common housing deficiencies. Multiple hazards in housing, e.g., mold, vermin, radon and the lack of safety devices, continue to adversely affect the health of residents. It is in the interest of public health to expand from a single focus on lead poisoning prevention to a coordinated, comprehensive, and systematic approach to eliminating multiple housing-related health hazards.

HHLPSS builds upon previous efforts by the NBLSS. While the earlier NBLSS was focused on homes of children less than six years old, the new HHLPSS, upon approval, will replace the NBLSS and will enable flexibility to evaluate all homes, regardless of the presence of children < age 6 years. In addition, replacement of NBLSS with HHLPSS instead of a modification is necessary because the scope and methods of data collection by the funded state and local programs can be much different (e.g., housing inspections vs. report of blood lead levels from a laboratory).

There is no cost to respondents other than their time. The total estimated annual burden hours equals 640.

Estimated Annualized Burden Table
Type of respondents | Form name | Number of respondents | Number of responses per respondent | Average burden per response (in hours)
State and Local Health Departments | Healthy Homes and Lead Poisoning Surveillance Variables (HHLPSS) | 40 | 4 | 4

Dated: November 4, 2011.
Daniel Holcomb,
Reports Clearance Officer, Centers for Disease Control and Prevention.

[FR Doc. 2011-29443 Filed 11-14-11; 8:45 am]

BILLING CODE 4163-18-P